DEPARTMENT OF ENERGY

Federal Energy Regulatory Commission

[Docket No. CP19-500-000]

Northern Natural Gas Company; Notice of Schedule for Environmental Review of the Palmyra to South Sioux City A-Line Abandonment Project

On August 15, 2019, Northern Natural Gas Company (Northern) filed an application in Docket No. CP19-500-000 requesting a Certificate of Public Convenience and Necessity pursuant to Sections 7(b) and Section 7(c) of the Natural Gas Act to abandon, construct, and operate certain natural gas pipeline facilities. The proposed project is known as the Palmyra to South Sioux City A-Line Abandonment Project (Project) and would ensure safe and efficient operation of Northern's existing pipeline system.

On August 29, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—December 13, 2019

90-day Federal Authorization Decision Deadline—March 12, 2020

If a schedule change becomes necessary, additional notice will be provided so that the relevant agencies are kept informed of the Project's progress.

Project Description

The Project involves the abandonment in place of a total of approximately 118 miles of 20-inch-diameter and 16-inch-diameter pipeline on its A-Line pipeline system in Otoe, Lancaster, Saunders, Dodge, Burt, Thurston, and Dakota Counties, Nebraska. In addition, Northern would construct and operate approximately 4.2 miles of 24-inch-diameter pipeline loop ¹ and associated appurtenances in Otoe and Dodge Counties, Nebraska. Northern states that after Commission approval of the Project, the abandoned pipeline would be purchased and removed by a third-party salvage company.

¹ A loop is a pipeline that is constructed adjacent to another pipeline for the purpose of increasing capacity in this portion of the system.

Background

On September 18, 2019, the Commission issued a Notice of Intent to Prepare an Environmental Assessment for the Proposed Palmyra to South Sioux City A-Line Abandonment Project and Request for Comments on Environmental Issues (NOI). The NOI was sent to affected landowners; federal, state, and local government agencies; elected officials; environmental and public interest groups; Native American tribes; other interested parties; and local libraries and newspapers. In response to the NOI, the Commission received comments from the Rosebud Sioux Tribe, the Nebraska Department of Natural Resources, the Lower Platte South Natural Resources District, and one landowner. The primary issues raised by the commentors are cultural resources; surface waters and wetlands; land use; and floodplains. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-500), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 28, 2019.
Kimberly D. Bose,
Secretary.

[FR Doc. 2019-23986 Filed 11-1-19; 8:45 am]

BILLING CODE 6717-01-P